DEPARTMENT OF ENERGY

Federal Energy Regulatory Commission

Combined Notice of Filings #1

October 29, 2008.

Take notice that the Commission received the following electric rate filings:

Docket Numbers: ER09-139-000.

Applicants: Red Wolf Energy Trading, LLC.

Description: Petition for Acceptance of Initial Rate Schedule re FERC Electric Tariff, Original Volume 1 of Red Wolf Energy Trading, LLC.

Filed Date: 10/28/2008.

Accession Number: 20081029-0066.

Comment Date: 5 p.m. Eastern Time on Tuesday, November 18, 2008.

Docket Numbers: ER09-140-000.

Applicants: Southwest Power Pool, Inc.

Description: Southwest Power Pool, Inc., submits revisions to update the Energy Imbalance Market Offer Cap under ER09-140.

Filed Date: 10/27/2008.

Accession Number: 20081029-0006.

Comment Date: 5 p.m. Eastern Time on Monday, November 17, 2008.

Docket Numbers: ER09-141-000.

Applicants: Southern California Edison Company.

Description: Southern California Edison submits a revised rate sheet to the Service Agreement for Wholesale Distribution Service.

Filed Date: 10/28/2008.

Accession Number: 20081029-0005.

Comment Date: 5 p.m. Eastern Time on Tuesday, November 18, 2008.

Docket Numbers: ER09-142-000.

Applicants: Southern California Edison Company.

Description: Southern California Edison submits amended agreements with the State of California Department of Water Resources.

Filed Date: 10/28/2008.

Accession Number: 20081029-0004.

Comment Date: 5 p.m. Eastern Time on Tuesday, November 18, 2008.

Docket Numbers: ER09-143-000.

Applicants: Avista Corporation, North Western Corporation.

Description: Avista Corp et al., submits non-conforming Long-Term Service Agreements.

Filed Date: 10/28/2008.

Accession Number: 20081029-0003.

Comment Date: 5 p.m. Eastern Time on Tuesday, November 18, 2008.

Docket Numbers: ER09-144-000.

Applicants: Wabash Valley Power Association, Inc.

Description: Wabash Valley Power Association, Inc., submits Amendments to its Formulary Rate Tariff for Service to Members.

Filed Date: 10/28/2008.

Accession Number: 20081029-0002.

Comment Date: 5 p.m. Eastern Time on Tuesday, November 18, 2008.

Docket Numbers: ER09-145-000.

Applicants: Mountain Wind Power, LLC.

Description: Mountain Wind Power, LLC submits a Shared Facilities Agreement.

Filed Date: 10/28/2008.

Accession Number: 20081029-0001.

Comment Date: 5 p.m. Eastern Time on Tuesday, November 18, 2008.

Docket Numbers: ER09-146-000.

Applicants: ISO New England, Inc.

Description: ISO New England, Inc., submits its capital budget for calendar year 2009, etc.

Filed Date: 10/28/2008.

Accession Number: 20081029-0007.

Comment Date: 5 p.m. Eastern Time on Tuesday, November 18, 2008.

Docket Numbers: ER09-148-000.

Applicants: Southwest Power Pool, Inc.

Description: Southwest Power Pool, Inc., proposes to revise portions of its Open Access Transmission Tariff to Incorporate Generation Station Power Supply Schedule, effective 12/27/08.

Filed Date: 10/28/2008.

Accession Number: 20081029-0273.

Comment Date: 5 p.m. Eastern Time on Tuesday, November 18, 2008.

Docket Numbers: ER09-149-000.

Applicants: Southwest Power Pool, Inc.

Description: Southwest Power Pool, Inc., proposes to revise portions of its Open Access Transmission Tariff to modify Energy Imbalance Service Market, effective 12/27/08.

Filed Date: 10/28/2008.

Accession Number: 20081029-0272.

Comment Date: 5 p.m. Eastern Time on Tuesday, November 18, 2008.

Docket Numbers: ER09-150-000.

Applicants: Southwest Power Pool, Inc.

Description: Southwest Power Pool, Inc.'s executed Meter Agent Services Agreement with Red Hills Wind Project, LLC as Market Participant and Constellation Energy Control and Dispatch, LLC.

Filed Date: 10/28/2008.

Accession Number: 20081029-0271.

Comment Date: 5 p.m. Eastern Time on Tuesday, November 18, 2008.

Docket Numbers: ER09-151-000.

Applicants: Keystone Energy Group, Inc.

Description: Keystone Energy Group, Inc., requests cancellation of First Revised Sheet 1 to FERC Electric Tariff, Original Volume 1, effective 11/30/08.

Filed Date: 10/29/2008.

Accession Number: 20081029-0270.

Comment Date: 5 p.m. Eastern Time on Wednesday, November 19, 2008.

Take notice that the Commission received the following electric securities filings:

Docket Numbers: ES09-6-000.

Applicants: Wolverine Power Supply Cooperative, Inc.

Description: Application for Authorization of the Assumption of Liabilities and the Issuances of Securities Under Section 204 of the Federal Power Act.

Filed Date: 10/27/2008.

Accession Number: 20081027-5121.

Comment Date: 5 p.m. Eastern Time on Monday, November 17, 2008.

Docket Numbers: ES09-7-000.

Applicants: Kansas City Power & Light Company.

Description: Kansas City Power & Light Company Application Under Federal Power Act Section 204 to Issue Short-Term Debt.

Filed Date: 10/28/2008.

Accession Number: 20081028-5081.

Comment Date: 5 p.m. Eastern Time on Tuesday, November 18, 2008.

Take notice that the Commission received the following open access transmission tariff filings:

Docket Numbers: OA08-118-001; OA08-54-004; OA08-55-004; OA08-56-004; OA08-57-004; OA08-99-002.

Applicants: Idaho Power Company, PacifiCorp, Deseret Generation & Transmission Co-op., Portland General Electric Company, Black Hills Power, Inc., Northwestern Corporation

Description: Order No. 890 Compliance Filing of the Jurisdictional Members of the Northern Tier Transmission Group Planning Agreement (in response to July 13 Order).

Filed Date: 10/29/2008.

Accession Number: 20081029-5040.

Comment Date: 5 p.m. Eastern Time on Wednesday, November 19, 2008.

Docket Numbers: OA08-23-001; OA08-28-002; OA08-31-002; OA08-40-001; OA08-45-002.

Applicants: Idaho Power Company, Deseret Generation & Transmission Co-op., Portland General Electric Company, NorthWestern Corporation, PacifiCorp.

Description: Order No. 890 Attachment K Joint Compliance Filing of the Funding Members of the Northern Tier Transmission Group in OA08-23, et al.

Filed Date: 10/29/2008.

Accession Number: 20081029-5084.

Comment Date: 5 p.m. Eastern Time on Wednesday, November 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-26311 Filed 11-4-08; 8:45 am]

BILLING CODE 6717-01-P